DEPARTMENT OF THE INTERIOR

National Park Service

[NPS-WASO-NAGPRA-20476; PPWOCRADN0-PCU00RP14.R50000]

Notice of Inventory Completion: University of South Alabama, Center for Archaeological Studies, Mobile, AL

AGENCY: National Park Service, Interior.

ACTION: Notice.

SUMMARY: The University of South Alabama, Center for Archaeological Studies, has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of South Alabama, Center for Archaeological Studies. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of South Alabama, Center for Archaeological Studies at the address in this notice by April 29, 2016.

ADDRESSES: Gregory A. Waselkov, Director, Center for Archaeological Studies, University of South Alabama, 6052 USA Drive South, Mobile, AL 36688, telephone (251) 460-6911, email gwaselkov@southalabama.edu.

SUPPLEMENTARY INFORMATION: Notice is here given in accordance with the Native American Graves Protection and Repatriation Act (NAGPRA), 25 U.S.C. 3003, of the completion of an inventory of human remains under the control of the University of South Alabama, Center for Archaeological Studies, Mobile, AL. The human remains were removed from sites 1FR310 and 1FR323, Franklin County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of South Alabama, Center for Archaeological Studies professional staff in consultation with representatives of Absentee-Shawnee Tribe of Indians of Oklahoma; Alabama-Coushatta Tribe of Texas (previously listed as the Alabama-Coushatta Tribes of Texas); Alabama-Quassarte Tribal Town; Cherokee Nation; Chitimacha Tribe of Louisiana; Coushatta Tribe of Louisiana; Eastern Band of Cherokee Indians; Eastern Shawnee Tribe of Oklahoma; Jena Band of Choctaw Indians; Kialegee Tribal Town; Mississippi Band of Choctaw Indians; Shawnee Tribe; The Chickasaw Nation; The Choctaw Nation of Oklahoma; The Muscogee (Creek) Nation; Poarch Band of Creeks (previously listed as the Poarch Band of Creek Indians of Alabama); The Quapaw Tribe of Indians; The Seminole Nation of Oklahoma; Thlopthlocco Tribal Town; Tunica-Biloxi Indian Tribe; and the United Keetoowah Band of Cherokee Indians in Oklahoma.

History and Description of the Remains

Around 1969, human remains representing, at minimum, one adult individual were removed from site 1FR310 in Franklin County, AL. This small collection may have been picked up from the site surface. All that is known regarding the circumstances surrounding the removal of these human remains is that an archeologist, Noel Read Stowe, wrote his master's thesis on this and other sites in Franklin County, AL, and donated the human remains to the University of South Alabama around 1970. No known individuals were identified. No associated funerary objects are present.

Around 1969, human remains representing, at minimum, one adult individual were removed from site 1FR323 in Franklin County, AL. This small collection may have been picked up from the site surface. All that is known regarding the circumstances surrounding the removal of these remains is that an archeologist, Noel Read Stowe, wrote his master's thesis on this site and other sites in Franklin County, AL, donated the human remains to the University of South Alabama around 1970. No known individuals were identified. No associated funerary objects are present.

Determinations Made by the University of South Alabama, Center for Archaeological Studies

Officials of the University of South Alabama, Center for Archaeological Studies have determined that:

• Pursuant to 25 U.S.C. 3001(9), the human remains described in this notice are Native American based on the context of their recovery from sites 1FR310 and 1FR323.

• Pursuant to 25 U.S.C. 3001(9), the human remains described in this notice represent the physical remains of two individuals of Native American ancestry.

• Pursuant to 25 U.S.C. 3001(2), a relationship of shared group identity cannot be reasonably traced between the Native American human remains and any present-day Indian tribe.

• Treaties, Acts of Congress, or Executive Orders indicate that the land from which the Native American human remains were removed is the aboriginal land of The Chickasaw Nation.

• Pursuant to 43 CFR 10.11(c)(1), the disposition of the human remains may be to The Chickasaw Nation.

Additional Requestors and Disposition

Representatives of any Indian tribe or Native Hawaiian organization not identified in this notice that wish to request transfer of control of these human remains should submit a written request with information in support of the request to Gregory A. Waselkov, Director, Center for Archaeological Studies, University of South Alabama, 6052 USA Drive South, Mobile, AL 36688, telephone (251) 460-6911, email gwaselkov@southalabama.edu, by April 29, 2016. After that date, if no additional requestors have come forward, transfer of control of the human remains to The Chickasaw Nation may proceed.

The University of South Alabama, Center for Archaeological Studies is responsible for notifying Absentee-Shawnee Tribe of Indians of Oklahoma; Alabama-Coushatta Tribe of Texas (previously listed as the Alabama-Coushatta Tribes of Texas); Alabama-Quassarte Tribal Town; Cherokee Nation; Chitimacha Tribe of Louisiana; Coushatta Tribe of Louisiana; Eastern Band of Cherokee Indians; Eastern Shawnee Tribe of Oklahoma; Jena Band of Choctaw Indians; Kialegee Tribal Town; Mississippi Band of Choctaw Indians; Shawnee Tribe; The Chickasaw Nation; The Choctaw Nation of Oklahoma; The Muscogee (Creek) Nation; Poarch Band of Creeks (previously listed as the Poarch Band of Creek Indians of Alabama); The Quapaw Tribe of Indians; The Seminole Nation of Oklahoma; Thlopthlocco Tribal Town; Tunica-Biloxi Indian Tribe; and the United Keetoowah Band of Cherokee Indians in Oklahoma that this notice has been published.

Dated: February 29, 2016.
Melanie O'Brien,
Manager, National NAGPRA Program.

[FR Doc. 2016-07110 Filed 3-29-16; 8:45 am]

BILLING CODE 4312-50-P